DEPARTMENT OF HOMELAND SECURITY

Coast Guard

33 CFR Part 117

[Docket No. USCG-2012-0344]

Drawbridge Operation Regulations; Manchester Harbor, Manchester, MA

AGENCY: Coast Guard, DHS.

ACTION: Notice of temporary deviation from regulations.

SUMMARY: The Commander, First Coast Guard District, has issued a temporary deviation from the regulation governing the operation of the Massachusetts Bay Transportation Bridge across Manchester Harbor, mile 1.0, at Manchester, Massachusetts. The deviation allows the bridge to remain in the closed position to facilitate timber replacement.

DATES: This deviation is effective from 1 a.m. on April 28, 2012 through 4 a.m. on May 7, 2012.

ADDRESSES: Documents mentioned in this preamble as being available in the docket are part of docket USCG-2012-0344 and are available online at www.regulations.gov, inserting USCG-2012-0344 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald, Project Officer, First Coast Guard District, telephone (617) 223-8364, email john.w.mcdonald@uscg.mil. If you have questions on viewing the docket, call Renee V. Wright, Program Manager, Docket Operations, telephone 202-366-9826.

SUPPLEMENTARY INFORMATION: The Massachusetts Bay Transportation Bridge, across Manchester Harbor, mile 1.0, at Manchester, Massachusetts, has a vertical clearance in the closed position of 6 feet at mean high water and 15 feet at mean low water. The drawbridge operation regulations are listed at 33 CFR 117.603.

The operator of the bridge, Massachusetts Bay Transportation Authority, requested a temporary deviation from the regulations to facilitate scheduled bridge maintenance, timber replacement at the bridge.

The timber replacement is vital necessary work that must be performed when no rail service is operating during weekend hours.

The waterway users are recreational vessels many of which can pass under the bridge in the closed position.

The bridge is normally crewed on a limited basis from 9 a.m. to 1 p.m. and from 1 p.m. to 6 p.m., April 1 through Memorial Day due to infrequent requests to open the bridge.

Under this temporary deviation the Massachusetts Bay Transportation Authority Bridge may remain in the closed position from 1 a.m. on Saturday, April 28, 2012 through 4 a.m. on Monday, April 30, 2012 and from 1 a.m. on Saturday, May 5, 2012 through 4 a.m. on Monday, May 7, 2012. Vessels that can pass under the bridge in the closed position may do so at all times.

In accordance with 33 CFR 117.35(e), the bridge must return to its regular operating schedule immediately at the end of the designated time periods. This deviation from the operating regulations is authorized under 33 CFR 117.35.

Dated: April 24, 2012.
Gary Kassof,
Bridge Program Manager, First Coast Guard District.

[FR Doc. 2012-10600 Filed 5-1-12; 8:45 am]

BILLING CODE 9110-04-P